DEPARTMENT OF HEALTH AND HUMAN SERVICES

Centers for Disease Control and Prevention

[Docket Number CDC-2019-0107, NIOSH-331]

NIOSH Center for Motor Vehicle Safety Strategic Plan, 2020-2029

AGENCY: National Institute for Occupational Safety and Health (NIOSH), Centers for Disease Control and Prevention (CDC), Department of Health and Human Services (HHS).

ACTION: Request for information and comment.

SUMMARY: The National Institute for Occupational Safety and Health of the Centers for Disease Control and Prevention announces the availability of a draft strategic plan titled NIOSH Center for Motor Vehicle Safety Strategic Plan, 2020-2029 now available for public comment.

DATES: Electronic or written comments must be received by February 14, 2020.

ADDRESSES: You may submit comments, identified by CDC-2019-0107 and docket number NIOSH-331, by any of the following methods:

• Federal eRulemaking Portal: https://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2019-0107; NIOSH-331]. All relevant comments received will be posted without change to https://www.regulations.gov, including any personal information provided. All electronic comments should be formatted as Microsoft Word. For access to the docket to read background documents or comments received, go to https://www.regulations.gov. All information received in response to this notice will also be available for public examination and copying at the NIOSH Docket Office, 1150 Tusculum Avenue, Room 155, Cincinnati, OH 45226-1998.

FOR FURTHER INFORMATION CONTACT: Kyla Retzer, Western States Division, P.O. Box 25226, Denver, Colorado 80225-0226, (303) 236-5934 (not a toll-free number), kretzer@cdc.gov OR Dr. Rosa Rodriguez-Acosta, Division of Safety Research, 1095 Willowdale Road, MS 1808, Morgantown, West Virginia, 26505-2888, (304) 285-6299 (not a toll-free number), rer3@cdc.gov.

SUPPLEMENTARY INFORMATION:

Background: The National Institute for Occupational Safety and Health (NIOSH) is seeking input on the draft NIOSH Center for Motor Vehicle Safety Strategic Plan, 2020-2029.

Motor vehicle crashes are the leading cause of work-related injury deaths in the United States. Millions of workers drive or ride in a motor vehicle as part of their jobs. The risk affects workers in all industries and occupations who drive as part of their job, whether they use a tractor-trailer or a passenger vehicle.

NIOSH is the only part of the U.S. Federal Government whose mission includes prevention of work-related crashes and resulting injuries for workers who drive all types of vehicles (not just the commercial motor vehicles regulated by the U.S. Department of Transportation).

NIOSH requests input on its strategic direction for research and communication to prevent work-related motor vehicle crashes and injuries. This plan aligns with the priority industry sectors (i.e., oil and gas extraction; public safety; transportation, warehousing, and utilities; and wholesale and retail trade) identified in the current NIOSH Strategic Plan: FYs 2019-2023.

Information Needs: NIOSH seeks comments on the following: (1) Does the draft plan address the research that is most critical for understanding and reducing work-related motor vehicle crashes and injuries? If not, please provide details on research topics that are also critical and should therefore be added to the plan. (2) Are there research topics in the draft plan that are low-priority or are already being adequately addressed by others, which therefore should not be included in the plan? If so, please identify these topics and explain why they should not be included.

To view the notice and related materials, visit https://www.regulations.gov and enter CDC-2019-0107 in the search field and click “Search.”

John J. Howard,
Director, National Institute for Occupational Safety and Health, Centers for Disease Control and Prevention.

[FR Doc. 2019-26999 Filed 12-13-19; 8:45 am]

BILLING CODE 4163-18-P